DEPARTMENT OF DEFENSE

Office of the Secretary

Renewal of Department of Defense Federal Advisory Committees

AGENCY: DoD.

ACTION: Amendment of Federal Advisory Committee.

SUMMARY: Under the provisions of section 724 of the National Defense Authorization Act for Fiscal Year 2010 (Pub. L. 111-84), the Federal Advisory Committee Act of 1972 (5 U.S.C. Appendix), the Government in the Sunshine Act of 1976 (5 U.S.C. 552b), and 41 CFR 102-3.50(a), the Department of Defense gives notice that it is amending the charter for the Department of Defense Task Force on the Care, Management, and Transition of Recovering Wounded, Ill, and Injured Members of the Armed Forces (hereafter referred to as “the Task Force”).

The Task Force, pursuant to 41 CFR 102-3.50(a), is a non-discretionary Federal advisory committee established to (a) access the effectiveness of the policies and programs developed and implemented by the Department of Defense, and by each of the Military Departments to assist and support the care, management, and transition of recovering wounded, ill, and injured members of the Armed Forces; and (b) make recommendations for the continuous improvements of such policies and programs.

The Task Force, pursuant to section 724(c) of Public Law 111-84, no later than 12 months after the date on which all Task Force members have been appointed, and each year thereafter for the life of the Task Force, shall submit an annual report to the Secretary of Defense on the activities of the Task Force, and on the activities of the Department of Defense, to include the Military Departments, to assist and support the care, management, and transition of recovering wounded, ill, and injured members of the Armed Forces.

At a minimum, the Task Force's report shall include the following:

a. The Task Force's findings and conclusions as a result of its assessment of the effectiveness of developed and implemented DoD policies and programs, to include those by each of the Military Departments, to assist and support the care, management, and transition of recovering wounded, ill, and injured members of the Armed Forces.

b. A description of best practices and various ways in which the Department of Defense, to include the Military Departments, could more effectively address matters relating to the care, management, and transition of recovering wounded, ill, and injured members of the Armed Forces, including members of the Regular and Reserve Components, and support for their families.

c. A plan listing and describing the Task Force's activities for the upcoming year covered by its annual report.

d. Such recommendations for other legislative or administrative action that are referred to the Task Force that are deemed by the Department of Defense to be appropriate for measures to improve DoD-wide policies and programs in (a) above, which assist and support the care, management, and transition of recovering wounded, ill, and injured members of the Armed Forces.

The Task Force, for the purposes of its reports, shall fully comply with sections 724(c)(2) and (3) of Public Law 111-84 in all matters dealing with the report's (a) methodology and (b) matters to be reviewed and assessed.

No later than 90 days after receiving the Task Force's annual report, the Secretary of Defense shall submit to the Committees on Armed Services of the Senate and the House of Representatives the report and the Secretary's evaluation of the report.

No later than six months after receiving the Task Force's annual report, the Secretary of Defense, in consultation with the Secretaries of the Military Departments, shall submit to the Committees on Armed Services of the Senate and the House of Representatives a plan to implement the recommendations of the Task Force's annual report.

The Task Force, pursuant to section 724(b) of Public Law 111-84, shall be comprised of not more than 14 members appointed by the Secretary of Defense.

Pursuant to 724(b)(2) of Public Law 111-84, the Secretary of Defense shall appoint the following, and appointments must be renewed by the Secretary of Defense on an annual basis:

a. At least one member of each of the Regular Components of the Army, the Navy, the Air Force and the Marine Corps;

b. One member of the National Guard;

c. One member of a Reserve Component of the Armed Forces other than the National Guard; and

d. A number of person from outside the Department of Defense equal to the total number of personnel from within the Department of Defense (whether members of the Armed Forces or civilian personnel) who are appointed to the Task Force.

Pursuant to sections 724(b)(2) through (4) of Public Law 111-84, the Secretary of Defense shall appoint persons meeting the following requirements:

a. At least one individual appointed to the Task Force from within the Department of Defense shall be The Surgeon General of an Armed Force.

b. At least one family member of a wounded, ill, or injured member of the Armed Forces or veteran who has experience working with wounded, ill, and injured members of the Armed Forces or their families.

c. The individuals appointed to the Task Force from outside the Department of Defense—

i. With the concurrence of the Secretary of Veterans Affairs, shall include an officer or employee of the Department of Veterans Affairs; and

ii. May include individuals from other departments or agencies of the Federal Government, from State and local agencies, or from the private sector.

d. Persons appointed to the Task Force shall have experience in—

i. Medical care and coordination for wounded, ill, and injured members of the Armed Forces;

ii. Medical case management;

iii. Non-medical case management;

iv. The disability evaluation process for members of the Armed Forces;

v. Veterans benefits;

vi. Treatment of traumatic brain injury and post-traumatic stress disorder;

vii. Family support;

viii. Medical research;

ix. Vocational rehabilitation; or

x. Disability benefits.

There shall be two co-chairs of the Task Force. One of the co-chairs shall be designated by the Secretary of Defense at the time of appointment from among the individuals appointed to the Task Force from within the Department of Defense. The other co-chair shall be selected from among the individuals appointed from outside the Department of Defense by those individuals.

Pursuant to sections 724(e)(1) of Public Law 111-84, Task Force members who are members of the Armed Forces or a civilian officer or employee of the United States shall serve on the Task Force without compensation (other than compensation to which entitled as a member of the Armed Forces or an officer or employee of the United States, as the case may be). Their appointments must be renewed on an annual basis. These Task Force members shall receive travel and per diem when traveling on official Task Force business.

Task Force members, who are not full-time or permanent part-time federal officers or employees, shall be appointed by the Secretary of Defense in accordance with, and subject to, the provisions of 5 U.S.C. 3161 and shall serve as special government employees.

With DoD approval, the Task Force is authorized to establish subcommittees, as necessary and consistent with its mission. These subcommittees shall operate under the provisions of the Federal Advisory Committee Act of 1972, the Government in the Sunshine Act of 1976 (5 U.S.C. 552b), and other governing Federal statutes and regulations, and governing DoD policies/procedures.

Such subcommittees shall not work independently of the chartered Task Force, and shall report all their recommendations and advice to the Task Force for full deliberation and discussion. Subcommittees have no authority to make decisions on behalf of the chartered Task Force; nor can they report directly to the Department of Defense or any Federal officers or employees who are not Task Force members.

Subcommittee members, who are not Task Force members, shall be appointed in the same manner as Task Force members. Subcommittee members, if not full-time or part-time government employees, shall be appointed by the Secretary of Defense according to governing DoD policy and procedures. Such individuals shall be appointed to serve as experts and consultants under the authority of 5 U.S.C. 3109, and shall serve as special government employees, whose appointments must be renewed on an annual basis.

FOR FURTHER INFORMATION CONTACT: Jim Freeman, Acting Advisory Committee Management Officer for the Department of Defense, 703-692-5952.

SUPPLEMENTARY INFORMATION: The Task Force shall meet at the call of the Task Force's Designated Federal Officer, in consultation with the Co-Chairs. The estimated number of Task Force meetings is five per year.

In addition, the Designated Federal Officer is required to be in attendance at all Task Force and subcommittee meetings for the entire duration of each meeting; however, in the absence of the Designated Federal Officer, an Alternate Designated Federal Officer shall attend the entire duration of the meeting.

Pursuant to 41 CFR 102-3.105(j) and 102-3.140, the public or interested organizations may submit written statements to Department of Defense Task Force on the Care, Management, and Transition of Recovering Wounded, Ill, and Injured Members of the Armed Force's membership about the Task Force's mission and functions. Written statements may be submitted at any time or in response to the stated agenda of planned meeting of Department of Defense Task Force on the Care, Management, and Transition of Recovering Wounded, Ill, and Injured Members of the Armed Forces.

All written statements shall be submitted to the Designated Federal Officer for the Department of Defense Task Force on the Care, Management, and Transition of Recovering Wounded, Ill, and Injured Members of the Armed Forces, and this individual will ensure that the written statements are provided to the membership for their consideration. Contact information for the Department of Defense Task Force on the Care, Management, and Transition of Recovering Wounded, Ill, and Injured Members of the Armed Forces Designated Federal Officer can be obtained from the GSA's FACA Database— https://www.fido.gov/facadatabase/public.asp.

The Designated Federal Officer, pursuant to 41 CFR 102-3.150, will announce planned meetings of the Department of Defense Task Force on the Care, Management, and Transition of Recovering Wounded, Ill, and Injured Members of the Armed Forces. The Designated Federal Officer, at that time, may provide additional guidance on the submission of written statements that are in response to the stated agenda for the planned meeting in question.

Dated: February 23, 2012.
Aaron Siegel,
Alternate OSD Federal Register Liaison Officer, Department of Defense.

[FR Doc. 2012-4730 Filed 2-28-12; 8:45 am]

BILLING CODE 5001-06-P